DEPARTMENT OF HEALTH AND HUMAN SERVICES

Centers for Disease Control and Prevention

[Docket Number NIOSH-008]

National Personal Protective Technology Laboratory; Meeting

AGENCY: The National Institute for Occupational Safety and Health (NIOSH) of the Centers for Disease Control and Prevention (CDC).

ACTION: Notice; CDC/NIOSH announces the following meeting.

Name: National Personal Protective Technology Laboratory (NPPTL) Public Meeting.

New programs for the approval of Powered, Air-Purifying Respirators (PAPRs), Total Inward Leakage (TIL), the Quality Assurance (QA) module, and the Administrative module will be discussed. In addition, presentations of current and future research projects for personal protective technology will be made, and opportunity for discussion will follow the presentations.

Dates and Times: October 12, 2006, 8:30 a.m.-4 p.m., and October 13, 2006, 8:30 a.m.-11:30 a.m.

Place: Crowne Plaza Pittsburgh South (formerly Holiday Inn Select), 164 Fort Couch Road, Pittsburgh (Bethel Park), Pennsylvania.

Purpose: The topics to be addressed include continuing discussions of certification issues, standards, and testing processes for CBRN PAPRs. Additionally, NPPTL research projects and plans will be presented and opportunity for discussion will be provided.

Interested participants may view the PAPR program, the industrial PAPR concept paper, as well as earlier versions of other concept papers used during the standard development effort, on the NIOSH Web site: http://www.cdc.gov/niosh/npptl, Respirator Standards Development; CBRN Standards: PAPR. The concept papers will be used as the basis for discussion at the public meeting.

Status: This meeting is hosted by NIOSH/NPPTL and will be open to the public, limited only by the space available. The meeting room will accommodate approximately 150 people. Interested parties should make hotel reservations directly with the Crowne Plaza Pittsburgh South (formerly Holiday Inn Select), Pittsburgh (Bethel Park), Pennsylvania, before the cut-off date of September 18, 2006. A special group rate of $91 per night for meeting guests has been negotiated for this meeting. The NIOSH/NPPTL Public Meeting must be referenced to receive this rate.

Please confirm your attendance to this meeting by completing a registration form and submitting it to NPPTL Event Management. You may register electronically by accessing the on-line registration link at http://www.cdc.gov/niosh, or you can download the Adobe PDF form and send it by e-mail to npptlevents@cdc.gov or fax it to 304-225-2003.

ADDRESSES: Comments on the topics presented in this notice and at the meeting should be mailed to: NIOSH Docket Office, Robert A. Taft Laboratories, M/S C34, 4676 Columbia Parkway, Cincinnati, Ohio 45226, telephone 513-533-8303, fax 513-533-8285. Comments may also be submitted by e-mail to niocindocket@cdc.gov. E-mail attachments should be formatted in Microsoft Word.

Comments regarding the Industrial PAPR should reference Docket Number NIOSH-008 in the subject heading.

FOR FURTHER INFORMATION CONTACT: NPPTL Event Management, 3604 Collins Ferry Road, Suite 100, Morgantown, West Virginia 26505-2353, Telephone 304-225-5138, fax 304-225-2003, e-mail npptlevents@cdc.gov.

Dated: August 23, 2006.
James D. Seligman,
Chief Information Officer, Centers for Disease Control and Prevention.

[FR Doc. 06-7279 Filed 8-30-06; 8:45 am]

BILLING CODE 4163-18-P